DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by April 4, 2005.

Title, Form, and OMB Number: Application for Appointment as Reserves of the Air Force or USAF Without Component; Air Force (AF) Form 24; OMB Number 0701-0096.

Type of Request: Extension.

Number of Respondents: 5,899.

Responses Per Respondent: 1.

Annual Responses: 5,899.

Average Burden per Response: 20 minutes.

Annual Burden Hours: 1,966.

Needs and Uses: The information collection requirement is necessary for providing necessary information to determine if applicant meets qualifications established for appointment as a Reserve (Air National Guard or the United States (ANGUS) and U.S. Air Force Reserves (USAFR)) or in the USAF without component. Use of the Social Security Number (SSN) is necessary to make positive identification of an applicant and his or her records.

Affected Public: Individuals or households.

Frequency: On occasion.

Respondent's Obligation: Required to obtain or retain benefits.

OMB Desk Officer: Mr. Lewis Oleinick.

Written comments and recommendations on the proposed information collection should be sent to Mr. Oleinick at the Office of Management and Budget, Desk Officer for DoD, Room 10236, New Executive Office Building, Washington, DC 20503.

DOD Clearance Officer: Ms. Patricia Toppings.

Written requests for copies of the information collection proposal should be sent to Ms. Toppings, WHS/ESCD/Information Management Division, 1225 South Clark Street, Suite 504, Arlington, VA 22202-4326.

Dated: February 28, 2005.
Patricia L. Toppings,
Alternate OSD Federal Register Liaison Officer, Department of Defense.

[FR Doc. 05-4207 Filed 3-3-05; 8:45 am]

BILLING CODE 5001-06-M